DEPARTMENT OF THE INTERIOR

National Park Service

[NPS-WASO-NAGPRA-34430; PPWOCRADN0-PCU00RP16.R50000]

Native American Graves Protection and Repatriation Review Committee: Notice of Nomination Solicitation

AGENCY: National Park Service, Interior.

ACTION: Request for nominations.

SUMMARY: The National Park Service is soliciting nominations for one member of the Native American Graves Protection and Repatriation Review Committee (Committee). The Secretary of the Interior will appoint one member from nominations submitted by Indian Tribes, Native Hawaiian organizations, or traditional Native American religious leaders. The nominee must be a traditional Indian religious leader.

DATES: Nominations must be received by December 5, 2022.

ADDRESSES: Please address nominations to Melanie O'Brien, Designated Federal Officer, National Native American Graves Protection and Repatriation Review Committee, via email nagpra_info@nps.gov.

FOR FURTHER INFORMATION CONTACT: Melanie O'Brien, via telephone at (202) 354-2201. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Committee was established by the Native American Graves Protection and Repatriation Act of 1990 (NAGPRA) and is regulated by the Federal Advisory Committee Act.

The Review Committee is responsible for:

1. Monitoring the NAGPRA inventory and identification process.

2. Reviewing and making findings related to the identity or cultural affiliation of cultural items, or the return of such items.

3. Facilitating the resolution of disputes.

4. Compiling an inventory of culturally unidentifiable human remains and developing a process for disposition of such remains.

5. Consulting with Indian Tribes and Native Hawaiian organizations and museums on matters within the scope of the work of the Review Committee affecting such Tribes or organizations.

6. Consulting with the Secretary of the Interior in the development of regulations to carry out NAGPRA.

7. Making recommendations regarding future care of repatriated cultural items.

The Committee consists of seven members appointed by the Secretary of the Interior. The Secretary may not appoint Federal officers or employees to the Committee. Three members are appointed from nominations submitted by Indian Tribes, Native Hawaiian organizations, and traditional Native American religious leaders. At least two of these members must be traditional Indian religious leaders. Three members are appointed from nominations submitted by national museum or scientific organizations. One member is appointed from a list of persons developed and consented to by all of the other members.

Members are appointed for four-year terms and incumbent members may be reappointed for two-year terms. The Committee's work is completed during public meetings. The Committee attempts to meet in person twice a year and meetings normally last two or three days. In addition, the Committee may also meet by public teleconference one or more times per year.

Members will be appointed as special Government employees (SGEs). Please be aware that members selected to serve as SGEs will be required, prior to appointment, to file a Confidential Financial Disclosure Report in order to avoid involvement in real or apparent conflicts of interest. You may find a copy of the Confidential Financial Disclosure Report and more information about ethics requirements for SGEs at the following website: https://www.doi.gov/ethics/special-government-employees. Additionally, after appointment, members appointed as SGEs will be required to meet applicable financial disclosure and ethics training requirements annually. Please contact 202-208-7960 or DOI_Ethics@sol.doi.gov with any questions about the ethics requirements for members appointed as SGEs.

Committee members serve without pay but are reimbursed for each day of committee business. Committee members are also reimbursed for travel expenses incurred in association with Committee meetings (25 U.S.C. 3006(b)(4)). Additional information regarding the Committee, including the Committee's charter, meeting procedures, and past practice, is available on the National NAGPRA Program website, at https://www.nps.gov/nagpra/review-committee.htm.

Nominations must:

1. If submitted by an Indian Tribe or Native Hawaiian organization, be submitted on the official letterhead of the Indian Tribe or Native Hawaiian organization.

2. If submitted by an Indian Tribe or Native Hawaiian organization, affirm that the signatory is the official authorized by the Indian Tribe or Native Hawaiian organization to submit the nomination.

3. If submitted by a Native American traditional religious leader, affirm that the signatory meets the definition of traditional Native American religious leader (see 43 CFR 10.2(d)(3)).

4. Provide the nominator's original signature, daytime telephone number, and email address.

5. Include the nominee's full legal name, home address, home telephone number, and email address.

Nominations should include a resume providing an adequate description of the nominee's qualifications, including information that would enable the Department of the Interior to make an informed decision regarding meeting the membership requirements of the Committee and permit the Department of the Interior to contact a potential member.

Public Disclosure of Information: Before including your address, phone number, email address, or other personal identifying information with your nomination, you should be aware that your entire nomination—including your personal identifying information—may be made publicly available at any time. While you can ask us in your nomination to withhold your personal identifying information from public review, we cannot guarantee that we will be able to do so.

Authority: 5 U.S.C. Appendix 2; 25 U.S.C. 3006.

Alma Ripps,
Chief, Office of Policy.

[FR Doc. 2022-21532 Filed 10-4-22; 8:45 am]

BILLING CODE 4312-52-P